DEPARTMENT OF HEALTH AND HUMAN SERVICES

Centers for Disease Control and Prevention

[Program Announcement 01145]

Expansion of the Prevention of Mother to Child Transmission Program, Isoniazid Preventive Therapy Program, and Information, Education, and Communication Activities in the Republic of Botswana; Notice of Availability of Funds

A. Purpose

The Centers for Disease Control and Prevention (CDC) announces the availability of fiscal year (FY) 2001 funds for a cooperative agreement with the Republic of Botswana Ministry of Health(MOH) for the expansion of the prevention of mother to child transmission program (PMTCT), the national rollout of the Isoniazid Preventive Therapy (IPT) program, and the development and expansion of the Information, Education, and Communication (IEC) campaign targeting HIV/AIDS and HIV/AIDS-related conditions in Botswana.

The purpose of this cooperative agreement is to improve and expand the Prevention of Mother to Child Transmission program activities in Botswana, rollout the National IPT program, and provide technical assistance to improve HIV laboratory diagnostic and monitoring capability, which will be accomplished through cooperation between CDC and the MOH of Botswana.

These collaborative activities could profoundly impact the scope and intensity of the implementation of the National AIDS Policy. Cooperative efforts could lead to greater access to counseling and testing services in all areas of the country, expansion of the IPT program throughout the nation, and significant improvements in HIV/AIDS education and promotion activities, and strengthened aspects of the public health infrastructure.

The U.S. Government seeks to reduce the impact of HIV/AIDS and related conditions in specific countries within sub-Saharan Africa, Asia, and the Americas through its Leadership and Investment in Fighting an Epidemic (LIFE) initiative. Through this program, CDC has initiated its Global AIDS Program (GAP) to strengthen capacity and expand activities in the areas of (1) HIV primary prevention; (2) HIV care, support, and treatment; and (3) capacity and infrastructure development, especially for surveillance. Targeted countries represent those with the most severe epidemics and the highest number of new infections. They also represent countries where the potential for impact is greatest and where U.S. Government agencies are already active. Botswana is one of these targeted countries.

To carry out its activities in these countries, CDC is working in a collaborative manner with national governments and other agencies to develop programs of assistance to address the HIV/AIDS epidemic. CDC's program of technical assistance to Botswana focuses on several areas including scaling up promising prevention and care strategies, such as PMTCT and IPT, supporting behavior change communication projects, such as IEC activities, and other capacity building efforts.

Botswana is experiencing one of the world's most severe AIDS crises that looms as a disaster of unprecedented proportions. The global burden of HIV/AIDS in Botswana is the highest in sub-Saharan Africa, where 83 percent of the world's AIDS deaths have occurred, and where four-fifths of all HIV-positive women live. Despite a relative stabilization of infection rates in some countries in West Africa, the HIV/AIDS epidemic continues to grow at an alarming rate in Southern Africa. Like many countries in this region, Botswana has been disproportionately affected by the AIDS pandemic. Over 20 percent of the population are believed to be HIV positive and the Botswana National Aids Co-ordinating Agency's 2000 Sentinel Surveillance reports 38.5 percent HIV infection in participating pregnant women. Botswana estimates that as many as 25 babies a day are born with HIV. AIDS-related conditions are responsible for 10 percent of annual deaths, with women and adolescents particularly at risk. TB is by far the single leading cause of death among adults with AIDS in Botswana. Based on Sentinel surveys in 1999, an estimated 19 percent of the total population and 29 percent of the economically productive age group (15-49 years old) are living with HIV infection. The rate of TB infection in Botswana (537/100,000 in 1999) is one of the highest in the world.

Botswana has taken many positive steps to address the AIDS epidemic. The President has recognized HIV/AIDS as “the greatest challenge Botswana has faced” and has warned Botswana that HIV/AIDS “threatens the country with annihilation.” The Botswana government pays for up to 80 percent of all HIV/AIDS activities in the country. This full-scale national response has generated many examples of creative programming and international collaborations. The government of Botswana will be among the first African countries to launch a TB prevention program using Isoniazid Preventive Therapy (IPT) for HIV infected individuals. A Pilot program of IPT was implemented in October 2000 and planning for nation-wide implementation is underway. In 1999 the MOH launched a pilot project for PMTCT in Gaborone and Francistown which has also been approved for full scale implementation. Both programs face manpower needs and require large scale training efforts for health care workers.

The Botswana MOH and CDC collaboration was established in 1995 and is known as the “The BOTUSA Project” and is a successful example of MOH and international collaboration. BOTUSA is a strong supporter of the IPT program and is providing technical assistance, training for health care workers, supplying educational materials, and supporting program monitoring and evaluation. BOTUSA's collaboration includes support for the national PMTCT program through the provision of technical assistance, counseling space, equipment, and materials for prenatal clinics throughout the country.

However, despite the support of the government to fight the epidemic and the collaboration with international partners, the prevalence of HIV infection appears to have increased substantially in Botswana from 1997 to 2000 and the epidemic cannot yet be characterized as having stabilized. The capacity of the government to expand their pilot projects for prevention and extend the reach of their activities to the entire nation will have a substantial impact on the epidemic.

B. Eligible Applicants

Assistance will be provided only to the MOH of Botswana. No other applications are solicited.

The MOH is the only appropriate and qualified organization to fulfill the requirements set forth in this announcement because:

1. The MOH is uniquely positioned, in terms of constitutional authority, mandate and ability to oversee and safeguard public health, and to collect and analyze information and disseminate surveillance and health system performance reports related to the prevalence and incidence of HIV/AIDS, HIV/AIDS-related conditions and other health issues.

2. The MOH has in place the central, district, and community-based structures required to immediately engage in the activities listed in this announcement.

3. The MOH is directly responsible for the implementation, monitoring and evaluation of population-based HIV/AIDS prevention and care policies and services.

C. Availability of Funds

Approximately $500,000 is available in FY 2001, to fund this agreement. It is expected that the awards will begin on or about September 1, 2001 and will be made for a 12-month budget period within a project period of 5 years. Annual funding estimates may change.

All requests for funds, including the budget contained in the application, shall be stated in U.S. dollars. Once an award is made, the Department of Health and Human Services (DHHS) will not compensate foreign grantees for currency exchange fluctuations through the issuance of supplemental awards.

Continuation awards within the approved project period will be made on the basis of satisfactory progress as evidenced by required reports and the availability of funds.

Use of Funds

Funds received from this announcement will not be used for the purchase of antiretroviral drugs for treatment of established HIV infection (with the exception nevirapine in PMTCT cases and with prior written approval), occupational exposures, and non-occupational exposures and will not be used for the purchase of machines and reagents to conduct the necessary laboratory monitoring for patient care.

Funds received will not be used for the direct purchase of drugs to treat active TB disease. No funds appropriated under this announcement shall be used to carry out any program of distributing sterile needles or syringes for the hypodermic injection of any illegal drug.

Applicants may contract with other organizations under these cooperative agreements, however, applicants must perform a substantial portion of the activities (including program management and operations and delivery of prevention services) for which funds are requested.

The costs that are generally allowable in grants to domestic organizations are likewise allowable to foreign institutions and international organizations, with the following exception:

Indirect Costs: With the exception of the American University, Beirut, the Gorgas Memorial Institute, and the World Health Organization, indirect costs will not be paid (either directly or through a sub-award) to organizations located outside the territorial limits of the United States or to international organizations regardless of their location.

D. Program Requirements

In conducting activities to achieve the purpose of this program, the recipient will be responsible for the activities under 1. (Recipient Activities), and CDC will be responsible for the activities listed under 2. (CDC Activities).

1. Recipient Activities

a. Strengthen and support the PMTCT program in-country.

(1) Increase coverage and improve impact of promotion and education activities required to implement the PMTCT program in all health districts by the end of 2001 through the provision of an additional IEC Officer to be assigned to the PMTCT Programme.

(2) Upgrade capacity for monitoring and evaluation of the program and assure that uptake and awareness of the program is increasing through the provision of additional monitoring and evaluation staff to the PMTCT Programme

b. Funding to be administered by the Ministry of Health includes the provision of short term contracts for technical and support staff needed to enhance current pilot programs in IPT and PMTCT to a nation wide level and provide technical support to set up high quality laboratory monitoring and testing for HIV diagnosis and treatment. (For example, recipient may wish to engage time-limited contractors or consultants who would not become permanent staff unless positions were created and filled by the official Government of Botswana Department of Manpower.

c. Expand the IPT pilot program for HIV positive individuals to provide nationwide access.

d. Provide training to all relevant health workers nationwide on the technical aspects of program implementation. This will be accomplished by the engaging of a National Training Coordinator and additional trainers to be placed in the Botswana National Tuberculosis Programme (BNTP) in the Epidemiology Unit.

e. Provide technical and support staff needed to expand current pilot programs in IPT and PMTCT to a nation wide level and provide technical support to set up high quality laboratory monitoring and testing for HIV diagnosis and treatment. For example, recipients may wish to engage contractors to conduct these activities.

f. Improve the laboratory capacity to provide monitoring and diagnostic testing for HIV positive individuals on anti-retroviral treatment and improve ability to determine eligibility and most effective timing of treatment and care options. The cooperative agreement may be accomplished through the limited renovation (within CDC policy guidelines and prior written approval) of buildings and property which will be provided by the Ministry of Health in Francistown, Serowe, and Maun which are the three largest population centers outside of Gaborone, the capital.

2. CDC Activities

a. Collaborate with MOH on designing and implementing the activities listed above, including but not limited to the provision of technical assistance to develop and implement program activities, quality assurance, data management, statistical analysis, and presentation of program methods and findings.

b. Provide guidance in the renovation of laboratory space in Francistown, Serowe, and Maun, technical assistance in the design and layout of the laboratory space, and provision of portable buildings through a support agreement to increase laboratory space in rural areas as needed.

c. Provide technical assistance in setting up and running a virology laboratory for diagnostic and monitoring purposes, type of equipment and laboratory tests for best quality of service, and quality assurance.

d. Collaborate with MOH and other relevant partners and agencies in the development activities; directly assist with voluntary counseling and testing services.

e. Monitor project and budget performance.

E. Application Content

Please use the information in the Program Requirements, Other Requirements, and Evaluation Criteria sections of this document to develop your application content. Your application will be evaluated on the criteria listed, so it is important to follow them in laying out your program plan. The narrative should be no more than 25 double-spaced pages, printed on one side, with one-inch margins, and with unreduced font. Pages should be numbered, and a complete index to the application and any appendices must be included.

F. Submission and Deadline

Submit the original and two copies of PHS 5161-1 (OMB Number 0937-0189). Forms are available in the application kit and at the following Internet address: www.cdc.gov/od/pgo/forminfo.htm. On or before August 15, 2001, submit the application to the Grants Management Specialist identified in the “Where to Obtain Additional Information” section of this announcement.

G. Evaluation Criteria

Your application will be evaluated against the following criteria by an independent review group appointed by CDC.

1. Understanding of the Problem (20 points)

Extent to which the applicant demonstrates a clear and concise understanding of the nature of the problem described in the Purpose section of this announcement. This specifically includes description of the public health importance of the planned activities to be undertaken and realistic presentation of proposed objectives and projects.

2. Technical Approach (25 points)

The extent to which the applicant's proposal includes an overall design strategy, including measurable time lines, the extent to which the proposal addresses regular monitoring and evaluation, and the potential effectiveness of the proposed activities in meeting objectives.

3. Ability To Carry Out the Project (20 points)

The extent to which the applicant documents demonstrated capability to achieve the purpose of the project.

4. Personnel (20 points)

The extent to which professional personnel involved in this project are qualified, including evidence of experience in working with HIV/AIDS, opportunistic infections, and HIV/STD surveillance.

5. Plans for Administration and Management of Projects (15 points)

Adequacy of plans for administering the projects.

6. Budget (not scored)

The extent to which itemized budget for conducting the project, along with justification, is reasonable and consistent with stated objectives and planned program activities.

7. Protection of Human Subjects (not scored)

The extent to which the application adequately addresses the requirements of 45 CFR 46 for the protection of human subjects.

H. Other Requirements

Technical Reporting Requirements

Provide CDC with original plus two copies of

1. Written quarterly progress reports;

2. Financial status report, no more than 45 days after the end of the budget period; and

3. Final financial and performance reports, no more than 90 days after the end of the project period.

4. Annual audit of these CDC funds (program-specific audit) by a U.S. based audit firm with international branches and current licensure/authority in-country, and in accordance with International Accounting Standards or equivalent standard(s) approved in writing by CDC.

A fiscal Recipient Capability Assessment may be required, pre or post award, with the potential awardee in order to review their business management and fiscal capabilities regarding the handling of U.S. Federal funds.

Send all reports to the program contact and the Grants Management Specialist, identified in the “Where to Obtain Additional Information” section of this announcement.

The following additional requirements are applicable to this program. For a complete description of each, see Attachment I of the announcement. Some of the more complex requirements have some additional information provided below:

AR-1 Human Subjects Requirements

AR-6 Patient Care

AR-14 Accounting System Requirements

AR-22 Research Integrity

I. Authority and Catalog of Federal Domestic Assistance Number

This program is authorized under section 307 of the Public Health Service Act, (42 U.S.C. section 242I), as amended. The Catalog of Federal Domestic Assistance number is 93.941.

J. Where to Obtain Additional Information

This and other CDC announcements can be found on the CDC home page Internet address—http://www.cdc.gov Click on “Funding” then “Grants and Cooperative Agreements.”

If you have questions after reviewing the contents of all the documents, business management technical assistance may be obtained from: Dorimar Rosado, Grants Management Specialist, Grants Management Branch, Procurement and Grants Office, Centers for Disease Control and Prevention, 2920 Brandywine Road, Room 3000, Atlanta, GA 30341-4146, Telephone number: (770) 488-2782 e-mail: dpr7@cdc.gov.

For program technical assistance, contact: Ethleen S. Lloyd, Global AIDS Program (GAP), C/o U.S. Embassy Gaborone, 2170 Gaborone Place, Washington D.C. 20521, Telephone: 267-301-696, Fax: 267-373-117.

Dated: July 12, 2001.
John L. Williams,
Director, Procurement and Grants Office, Centers for Disease Control and Prevention.

[FR Doc. 01-17910 Filed 7-17-01; 8:45 am]

BILLING CODE 4163-18-P